COMMITTEE FOR PURCHASE FROM PEOPLE WHO ARE BLIND OR SEVERELY DISABLED

Procurement List; Proposed Deletions

AGENCY: Committee for Purchase From People Who Are Blind or Severely Disabled.

ACTION: Proposed deletions from the procurement list.

SUMMARY: The Committee is proposing to delete service(s) from the Procurement List that were furnished by nonprofit agencies employing persons who are blind or have other severe disabilities.

DATES: Comments must be received on or before: September 01, 2024.

ADDRESSES: Committee for Purchase From People Who Are Blind or Severely Disabled, 355 E Street SW, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following service(s) are proposed for deletion from the Procurement List:

Service(s)

Service Type: Develop Rapid Prototypes

Mandatory for: Alphapointe Association for the Blind, Kansas City, MO

Designated Source of Supply: National Industries for the Blind, Alexandria, VA

Designated Source of Supply: The Arkansas Lighthouse for the Blind, Little Rock, AR

Designated Source of Supply: Blind Industries & Services of Maryland, Baltimore, MD

Designated Source of Supply: Alphapointe, Kansas City, MO

Designated Source of Supply: Lions Services, Inc., Charlotte, NC

Designated Source of Supply: LC Industries, Inc., Durham, NC

Designated Source of Supply: Industries of the Blind, Inc., Greensboro, NC

Designated Source of Supply: Winston-Salem Industries for the Blind, Inc., Winston-Salem, NC

Designated Source of Supply: Northeastern Association of the Blind at Albany, Inc., Albany, NY

Designated Source of Supply: Goodwill Vision Enterprises, Rochester, NY

Designated Source of Supply: San Antonio Lighthouse for the Blind, San Antonio, TX

Designated Source of Supply: (Seattle Lighthouse), Seattle, WA

Contracting Activity: U.S. COAST GUARD, HQ CONTRACT OPERATIONS (CG-912)

Service Type: Telephone Switchboard Operations

Mandatory for: Department of Veterans Affairs, VA Medical Center, Washington, DC

Designated Source of Supply: Columbia Lighthouse for the Blind, Washington, DC

Contracting Activity: VETERANS AFFAIRS, DEPARTMENT OF, 688-WASHINGTON, DC (00688)

Michael R. Jurkowski,
Director, Business Operations.

[FR Doc. 2024-17104 Filed 8-1-24; 8:45 am]

BILLING CODE 6353-01-P